Presidential Determination No. 2007-26 of July 10, 2007

Presidential Determination on Transfer of Economic Support Funds to the Overseas Private Investment Corporation To

Establish a Loan Guarantee Program

Memorandum for the Secretary of State

Pursuant to section 579 of the Foreign Operations, Export Financing, and Related Programs Appropriations Act, 2006 (Public Law 109-102)(the “Act”), I hereby determine that it is in furtherance of the purposes of the Foreign Assistance Act of 1961, that $5 million in Economic Support Funds appropriated under title II of the Act may be transferred to and merged with the funds appropriated by the Act for the Overseas Private Investment Corporation Program Account, to be subject to the terms and conditions of that account.

You are authorized and directed to publish this determination in the Federal Register.

THE WHITE HOUSE,

Washington, July 10, 2007.

[FR Doc. 07-3550

Filed 7-18-07; 8:57 am]

Billing code 4710-10-P